ENVIRONMENTAL PROTECTION AGENCY

[EPA-R05-OAR-2007-0520, EPA-R05-OAR-2007-0585; FRL-8556-8]

Adequacy Status of the Indiana and Ohio Portions of the Cincinnati-Hamilton, Ohio/Kentucky/Indiana, Submitted 8-Hour Ozone Attainment Demonstration for Transportation Conformity Purposes

AGENCY: Environmental Protection Agency (EPA).

ACTION: Notice of adequacy.

SUMMARY: In this notice, EPA is notifying the public that we have found that the motor vehicle emissions budgets (MVEBs) for volatile organic compounds (VOC) and oxides of nitrogen (NOX) in the Indiana and Ohio portions of the Cincinnati-Hamilton, Ohio/Kentucky/Indiana area are adequate for use in transportation conformity determinations. Indiana submitted the Cincinnati-Hamilton budgets with an 8-hour ozone attainment demonstration on June 13, 2007. As a result of our finding, the Indiana and Ohio portions of the Cincinnati-Hamilton, Ohio/Kentucky/Indiana area must use the MVEBs from the submitted 8-hour ozone attainment demonstration for future transportation conformity determinations.

DATES: This finding is effective May 8, 2008.

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, Maietta.anthony@epa.gov.

SUPPLEMENTARY INFORMATION: Throughout this document, whenever “we”, “us” or “our” is used, we mean EPA.

Background

Today's notice is simply an announcement of a finding that we have already made. On March 6, 2008, EPA Region 5 sent a letter to the Indiana Department of Environmental Management stating that the 2008 MVEBs for the Indiana and Ohio portion of the Cincinnati-Hamilton, Ohio/Kentucky/Indiana area, which were submitted with the 8-hour ozone attainment demonstration, are adequate. Receipt of these MVEBs was announced on EPA's transportation conformity Web site, and no comments were submitted. The finding is available at EPA's conformity Web site: http://www.epa.gov/otaq/stateresources/transconf/adequacy.htm.

The adequate 2008 MVEBs, in tons per day (tpd), for VOC and NOX for the Indiana and Ohio portions of the Cincinnati-Hamilton, Ohio/Kentucky/Indiana area are as follows:

| 2008 MVEB (tpd)
VOC | 72.16
NOX | 18.99

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's motor vehicle emission budgets are adequate for transportation conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's transportation conformity Web site: http://www.epa.gov/otaq/stateresources/transconf/adequacy.htm.

Authority: 42 U.S.C. 7401-7671q.

Dated: April 11, 2008.
Margaret Guerriero,
Acting Regional Administrator, Region 5.

[FR Doc. E8-8858 Filed 4-22-08; 8:45 am]

BILLING CODE 6560-50-P